DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans).

SUMMARY: The FHWA, on behalf of Caltrans, is issuing this notice to announce actions taken by Caltrans that are final. The actions relate to a proposed highway project, Interstate 805/Palm Avenue Interchange Improvements in the County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 7, 2020. If the Federal law that authorizes judicial review of a claim provides a time period of less than 150 days for filing such claim, then that shorter time period still applies.

FOR FURTHER INFORMATION CONTACT: For Caltrans: Bruce April, Deputy District Director—Environmental, California Department of Transportation—District 11, 4050 Taylor Street, MS 242, San Diego, CA 92110, 9 a.m.-5 p.m., (619) 688-0100, bruce.april@dot.ca.gov. For FHWA, contact David Tedrick at (916) 498-5024 or david.tedrick@dot.gov.

SUPPLEMENTARY INFORMATION: Effective July 1, 2007, the FHWA assigned, and Caltrans assumed, environmental responsibilities for this project pursuant to 23 U.S.C. 327. Notice is hereby given that the Caltrans have taken final agency actions subject to 23 U.S.C. 139(l)(1) by issuing licenses, permits, and approvals for the following highway project in the State of California: The project proposes to improve the Interstate 805 and Palm Avenue interchange and would increase capacity at this Interchange to address the increase in local traffic that has occurred and is expected to occur in the future. The actions by the Federal agencies, and the laws under which such actions were taken, are described in the Final Environmental Assessment/Finding of No Significant Impact (FEA/FONSI) for the project, approved on June 28, 2019 and in other documents in the Caltrans' project records. The FEA, FONSI, and other project records are available by contacting Caltrans at the address provided above. This notice applies to all Federal agency decisions as of the issuance date of this notice and all laws under which such actions were taken, including but not limited to:

1. Council of Environmental Quality Regulations (40 CFR 1500 et seq., 23 CFR 771);

2. National Environmental Policy Act (NEPA) of 1969, as amended, 42 U.S.C. 4321 et seq;

3. Federal-Aid Highway Act of 1970, (23 U.S.C. 109, as amended by FAST Act Section 1404(a), Pub. L. 114-94, and 23 U.S.C. 128);

4. Department of Transportation Act of 1966, Section 4(f);

5. Clean Water Act of 1977 and 1987 (33 U.S.C. 1251 et seq.);

6. Clean Air Act, as amended (42 U.S.C. 7401 et seq. (Transportation Conformity), 40 CFR part 93);

7. Endangered Species Act of 1973;

8. Executive Order 13112, Invasive Species;

9. Executive Order 13186, Migratory Bird Treaty Act;

10. Title VI of the Civil Rights Act of 1964, as amended.

(Catalog of Federal Domestic Assistance Program Number 20.205, Highway Planning and Construction. The regulations implementing Executive Order 12372 regarding intergovernmental consultation on Federal programs and activities apply to this program.)

Authority: 23 U.S.C. 139(l)(1).

Issued on: September 3, 2019.
Tashia J. Clemons,
Director, Planning and Environment, Federal Highway Administration, Sacramento, California.

[FR Doc. 2019-19537 Filed 9-9-19; 8:45 am]

BILLING CODE 4910-RY-P